DEPARTMENT OF COMMERCE

National Oceanic and Atmospheric Administration

RIN: 0648-XE50

Gulf of Mexico Fishery Management Council; Public Meetings; Correction

AGENCY: National Marine Fisheries Service (NMFS), National Oceanic and Atmospheric Administration (NOAA), Commerce.

ACTION: Notice of a correction of a public meeting notice.

SUMMARY: The Gulf of Mexico Fishery Management Council will convene a public meeting of the Ad Hoc Recreational Red Snapper Advisory Panel (AP).

DATES: The meeting will convene at 1 p.m. on Wednesday, January 9, 2008 and conclude no later than 12 p.m. on Friday, January 11, 2008.

ADDRESSES: This meeting will be held at the Quorum Hotel, 700 N. Westshore Blvd., Tampa, FL 33609; telephone: (813) 289-8200.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: The original notice published in the Federal Register on December 21, 2007 (72 FR 72676). This notice serves as a correction to the dates, times and adds a sentence to the end of the agenda.

The original notice stated that the meeting would conclude no later than 3 p.m. on Thursday, January 10, 2008. The meeting will now conclude no later than 12 p.m. on Friday, January 11, 2008.

At the end of the agenda, the following sentence should be added:

In addressing these issues, the AP may use break-out groups of selected panel members during a portion of the meeting in order to focus attention on these specific topics and develop discussion points for the entire AP to debate later in the meeting or at future meetings.

All other previously-published information remains the same.

Dated: December 27, 2007.
Tracey L. Thompson,
Acting Director, Office of Sustainable Fisheries, National Marine Fisheries Service.

[FR Doc. E7-25476 Filed 12-31-07; 8:45 am]

BILLING CODE 3510-22-S